DEPARTMENT OF ENERGY

Federal Energy Regulatory Commission

[Docket No. EC00-40-000, et al.]

Delmarva Power & Light Company, et al.; Electric Rate and Corporate Regulation Filings

March 16, 2000.

Take notice that the following filings have been made with the Commission:

1. Delmarva Power & Light Company and Atlantic City Electric Company

[Docket Nos. EC00-40-000 and EL00-52-000]

Take notice that on March 1, 2000, Delmarva Power & Light Company (Delmarva) and Atlantic City Electric Company (Atlantic) (collectively, Applicants), tendered for filing a request for approval regarding journal entries reflecting dividend payments out of paid-in capital related to the transfer of certain facilities from Delmarva and Atlantic to Conectiv Delmarva Generating, LLC (CDG) and Conectiv Atlantic Generating, LLC (CAG), respectively (Facility Transfer). Journal entries based on then available data reflecting such dividend payments were included in a December 17, 1999 application which Delmarva and Atlantic submitted to the Commission under Section 203 of the Federal Power Act in Docket No. EC00-40-000 to accomplish the Facility Transfer.

Delmarva and Atlantic request that the Commission approve the use of journal entries and the related accounting reflecting the payment of dividends out of paid-in capital in connection with the Facility Transfer. They have asked that the Commission take this action by May 1, 2000, which is the date that the Applicants hope to accomplish the Facility Transfer and undertake new power supply arrangements related to the Facility Transfer.

Copies of the filing were served upon Delmarva's wholesale requirements customers, and the Maryland People's Counsel, Maryland Public Service Commission, Delaware Public Service Commission, New Jersey Public Service Commission and the Virginia State Corporation Commission.

Comment date: April 6, 2000, in accordance with Standard Paragraph E at the end of this notice.

2. Commonwealth Edison Company, et al. and Midwest Independent Transmission System Operator

Docket Nos. EL00-25-001 and ER00-448-001]

Take notice that on March 10, 2000, the Midwest ISO Participants ¹ tendered for filing revisions to Appendix I to the open access transmission tariff and related documents of the Midwest Independent Transmission System Operator, Inc., in compliance with the Commission's February 24, 2000 order in the proceedings captioned above. Commonwealth Edison Company, et al., 90 FERC ¶ 61,192 (2000).

¹ The Midwest ISO Participants consist of Allegheny Energy, Ameren (which includes Central Illinois Public Service Company and Union Electric Company); Central Illinois Light Company; Cinergy (which includes PSO Energy and Cincinnati Gas & Electric Company); Commonwealth Edison; Hoosier Energy Rural Electric Cooperative; Illinois Power Company; Kentucky Utilities; Louisville Gas & Electric; Southern Indiana Gas and Electric Company; Wabash Valley Power Association; and Wisconsin Electric Power Company.

The Midwest ISO participants state that copies of this filing have been served on each person designated on the official service list compiled by the Secretary in these proceedings.

Comment date: April 10, 2000, in accordance with Standard Paragraph E at the end of this notice.

3. Horizon Energy Company and Central Maine Power Company

[Docket Nos. ER98-380-011 ER97-3390-002]

Take notice that on March 13, 2000, the above-mentioned power marketers filed quarterly reports with the Commission in the above-mentioned proceedings for information only.

4. Frederick C. Bustard

[Docket No. ID-3464-000]

Take notice that on March 8, 2000, the above-named individual filed with the Federal Energy Regulatory Commission an application for authority to hold an interlocking position in Maine Public Service Company and Northern Maine Independent System Administrator, Inc.

Comment date: April 7, 2000, in accordance with Standard Paragraph E at the end of this notice.

5. Atlantic City Electric Company

[Docket No. ER97-3189-026]

Take notice that on March 13, 2000, Atlantic City Electric Company tendered a compliance report in the above dockets pursuant to the Commission's February 29, 2000, order (90 FERC ¶ 61,224).

Copies of the filing were served on the official service list in these dockets.

Comment date: April 4, 2000, in accordance with Standard Paragraph E at the end of this notice.

6. MEP Pleasant Hill, LLC

[Docket No. ER99-2858-001]

Take notice that on March 10, 2000, MEP Pleasant Hill, LLC (MEPPH), tendered for filing a notice of change in status reflecting the sale of a 50-percent interest in MEPPH to CPN Pleasant Hill, LLC. MEPPH also tendered for filing a list of the current generation projects of Calpine Corporation.

Comment date: March 31, 2000, in accordance with Standard Paragraph E at the end of this notice.

7. Avista Corporation

[Docket No. ER00-1863-000]

Take notice that on March 13, 2000, Avista Corporation, tendered for filing with the Federal Energy Regulatory Commission pursuant to Section 35.12 of the Commissions, 18 CFR part 35.12, an executed Amendment to a Mutual Netting Agreement with ConAgra Energy Services, Inc, previously filed with the FERC under Docket No. ER98-4413-000, Service Agreement No. 253, effective 8/1/98 changing billing and payment terms.

AVA requests waiver of the prior notice requirements and requests an effective date of March 1, 2000 for the amended terms for net billing of transactions.

Notice of the filing has been served upon ConAgra Energy Services, Inc.

Comment date: April 4, 2000, in accordance with Standard Paragraph E at the end of this notice.

8. New York State Electric & Gas Corporation

[Docket No. ER00-1864-000]

Take notice that on March 13, 2000, New York State Electric & Gas Corporation (NYSEG), tendered for filing pursuant to Part 35 of the Federal Energy Regulatory Commission's Rules of Practice and Procedure, 18 CFR 35, a service agreement (the Service Agreement) under which NYSEG may provide capacity and/or energy to PP&L Electric Utilities Corporations d/b/a PPL Utilities, Inc. (PPL) in accordance with NYSEG's FERC Electric Tariff, Original Volume No. 3.

NYSEG has requested waiver of the notice requirements so that the Service Agreement becomes effective as of March 14, 2000.

NYSEG has served copies of the filing upon the New York State Public Service Commission and PPL.

Comment date: April 4, 2000, in accordance with Standard Paragraph E at the end of this notice.

9. Allegheny Energy Service Corporation, on behalf of Allegheny Energy Supply Company, LLC

[Docket No. ER00-1865-000]

Take notice that on March 13, 2000, Allegheny Energy Service Corporation on behalf of Allegheny Energy Supply Company, LLC (Allegheny Energy Supply), tendered for filing Amendment No. 1 to Supplement No. 15 to the Market Rate Tariff to incorporate a Netting Agreement with Rainbow Energy Marketing Corporation into the tariff provisions.

Allegheny Energy Supply requests a waiver of notice requirements to make the Amendment effective as of February 14, 2000 or such other date as ordered by the Commission.

Copies of the filing have been provided to the Public Utilities Commission of Ohio, the Pennsylvania Public Utility Commission, the Maryland Public Service Commission, the Virginia State Corporation Commission, the West Virginia Public Service Commission, and all parties of record.

Comment date: April 4, 2000, in accordance with Standard Paragraph E at the end of this notice.

10. Duke Energy Corporation

[Docket No. ER00-1866-000]

Take notice that on March 13, 2000, Duke Energy Corporation (Duke), tendered for filing a Service Agreement with Duke Power, for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

11. Duke Energy Corporation

[Docket No. ER00-1867-000]

Take notice that on March 13, 2000, Duke Energy Corporation (Duke), tendered for filing a Service Agreement with Commonwealth Edison Company, for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

12. Duke Energy Corporation

[Docket No. ER00-1868-000]

Take notice that on March 13, 2000, Duke Energy Corporation (Duke), tendered for filing a Service Agreement with Alabama Power Co., Georgia Power Co., Gulf Power Co., Mississippi Power Co., Savannah Electric and Power Co., and Southern Company Services, Inc. for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

13. Duke Energy Corporation

[Docket No. ER00-1869-000]

Take notice that on March 13, 2000, Duke Energy Corporation (Duke), tendered for filing a Service Agreement with American Electric Power Service Corp., for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

14. Duke Energy Corporation

[Docket No. ER00-1870-000]

Take notice that on March 13, 2000, Duke Energy Corporation (Duke), tendered for filing a Service Agreement with Carolina Power & Light Company, for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

15. Duke Energy Corporation

[Docket No. ER00-1871-000]

Take notice that on March 13, 2000, Duke Energy Corporation (Duke), tendered for filing a Service Agreement with Virginia Electric and Power Corporation, for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

16. Duke Energy Corporation

[Docket No. ER00-1872-000]

Take notice that on March 13, 2000, Duke Energy Corporation (Duke), tendered for filing a Service Agreement with Florida Power & Light Company, for Firm Transmission Service under Duke's Open Access Transmission Tariff.

Duke requests that the proposed Service Agreement be permitted to become effective on February 16, 2000.

Duke states that this filing is in accordance with Part 35 of the Commission's Regulations and a copy has been served on the North Carolina Utilities Commission.

Comment date: April 4, 2000, in accordance with Standard Paragraph E at the end of this notice.

17. Consolidated Edison Company of New York, Inc.

[Docket No. ER00-1873-000]

Take notice that on March 13, 2000, Consolidated Edison Company of New York, Inc. (Con Edison), tendered for filing: (1) Revised tariff sheets amending Con Edison's Open Access Transmission Tariff, FERC Electric Rate Schedule No. 1; (2) a Notice of Cancellation of its Joint Open Access Transmission Tariff with Orange and Rockland Utilities, Inc.; and (3) a Notice of Cancellation of its Retail Access Sales Tariff. Con Edison states that the proposed tariff sheets amend the terms and conditions for transmission service to conform to (i) changes in Con Edison's Retail Access Program to be implemented during Phase 3 of that program and (ii) the commencement of operations by the New York Independent System Operator (NYISO). Specifically, the proposed tariff sheets would close the Con Edison OATT to new wholesale services, would delete schedules for ancillary services, and would amend the terms and conditions for retail transmission service that are contained in Attachments K and L of the tariff. Con Edison also states that the tariff cancellations conform with the commencement of NYISO operations and Con Edison's divestiture of its generating facilities.

Comment date: April 4, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7149 Filed 3-22-00; 8:45 am]

BILLING CODE 6717-01-P